SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: August 1-31, 2017.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Chesapeake Appalachia, LLC, Pad ID: Alvarez, ABR-201301012.R1, Wilmot Township, Bradford County and Windham Township, Wyoming County, Pa.; Consumptive Use of Up to 7.5000 mgd; Approval Date: August 7, 2017.

2. Range Resources—Appalachia, LLC, Pad ID: McWilliams Unit #6H—#10H Well Pad, ABR-201208015.R1, Cogan House Township, Lycoming County, Pa.; Consumptive Use of Up to 1.0000 mgd; Approval Date: August 7, 2017.

3. Range Resources—Appalachia, LLC, Pad ID: Null—Bobst Unit 1H—5H, ABR-201208018.R1, Cogan House Township, Lycoming County, Pa.; Consumptive Use of Up to 1.0000 mgd; Approval Date: August 7, 2017.

4. Endless Mountain Energy Partners, LLC, Pad ID: SGL Tract 268-Pad B, ABR-201206010.R1, Morris Township, Tioga County, Pa.; Consumptive Use of Up to 6.0000 mgd; Approval Date: August 8, 2017.

5. SWEPI, LP, Pad ID: Lynn 719, ABR-201207012.R1, Liberty Township, Tioga County, Pa.; Consumptive Use of Up to 4.0000 mgd; Approval Date: August 11, 2017.

6. SWN Production Company, LLC, Pad ID: TI-09 BROWN, ABR-201708001, Jackson Township, Lycoming County, Pa.; Consumptive Use of Up to 4.9990 mgd; Approval Date: August 14, 2017.

7. ARD Operating, LLC, Pad ID: Salt Run HC Pad A, ABR-201208007.R1, Cascade Township, Lycoming County, Pa.; Consumptive Use of Up to 4.0000 mgd; Approval Date: August 18, 2017.

8. ARD Operating, LLC, Pad ID: Kenneth L Martin Pad A, ABR-201208008.R1, Cogan House Township, Lycoming County, Pa.; Consumptive Use of Up to 4.0000 mgd; Approval Date: August 18, 2017.

9. ARD Operating, LLC, Pad ID: Ann C Good Pad A, ABR-201208009.R1, Cogan House Township, Lycoming County, Pa.; Consumptive Use of Up to 4.0000 mgd; Approval Date: August 18, 2017.

10. ARD Operating, LLC, Pad ID: Red Fox H&FC Pad B, ABR-201208010.R1, Cogan House Township, Lycoming County, Pa.; Consumptive Use of Up to 4.0000 mgd; Approval Date: August 18, 2017.

11. ARD Operating, LLC, Pad ID: Terry D. Litzelman Pad A, ABR-20121105.R1, Cogan House Township, Lycoming County, Pa.; Consumptive Use of Up to 4.0000 mgd; Approval Date: August 18, 2017.

12. ARD Operating, LLC, Pad ID: Larry's Creek F&G Pad F, ABR-20121106.R1, Mifflin Township, Lycoming County, Pa.; Consumptive Use of Up to 4.0000 mgd; Approval Date: August 18, 2017.

13. Chesapeake Appalachia, LLC, Pad ID: Finan, ABR-201301014.R1, Wilmot Township, Bradford County, Pa.; Consumptive Use of Up to 7.5000 mgd; Approval Date: August 18, 2017.

14. Chief Oil & Gas, LLC, Pad ID: Lathrop Farm Trust Drilling Pad, ABR-201302004.R1, Auburn Township, Susquehanna County, Pa.; Consumptive Use of Up to 2.0000 mgd; Approval Date: August 22, 2017.

15. Cabot Oil & Gas Corporation, LLC, Pad ID: SalanskyT P1, ABR-201208022.R1, Gibson Township, Susquehanna County, Pa.; Consumptive Use of Up to 5.0000 mgd; Approval Date: August 29, 2017.

16. Repsol Oil & Gas USA, LLC, Pad ID: ABELL (05 112) G, ABR-201209002.R1, Warren Township, Bradford County, Pa.; Consumptive Use of Up to 6.0000 mgd; Approval Date: August 29, 2017.

17. Repsol Oil & Gas USA, LLC, Pad ID: STORCH (01 099) S, ABR-201209016.R1, Troy Township, Bradford County, Pa.; Consumptive Use of Up to 6.0000 mgd; Approval Date: August 29, 2017.

18. SWN Production Company, LLC, Pad ID: Cooley (Pad 2), ABR-201209017.R1, Orwell Township, Bradford County, Pa.; Consumptive Use of Up to 4.9990 mgd; Approval Date: August 29, 2017.

19. SWN Production Company, LLC, Pad ID: Gypsy Hill-Eastabrook (Pad 5), ABR-201209018.R1, Orwell Township, Bradford County, Pa.; Consumptive Use of Up to 4.9990 mgd; Approval Date: August 29, 2017.

20. SWN Production Company, LLC, Pad ID: Rabago Birk (Pad 10), ABR-201209019.R1, Herrick and Standing Stone Townships, Bradford County, Pa.; Consumptive Use of Up to 4.9990 mgd; Approval Date: August 29, 2017.

21. Chief Oil & Gas, LLC, Pad ID: J. Brown Drilling Pad, ABR-201303001.R1, Troy Township, Bradford County, Pa.; Consumptive Use of Up to 2.0000 mgd; Approval Date: August 30, 2017.

Authority: Pub. L. 91-575, 84 Stat. 1509 et seq., 18 CFR parts 806, 807, and 808.

Dated: October 23, 2017.
Stephanie L. Richardson,
Secretary to the Commission.

[FR Doc. 2017-23354 Filed 10-26-17; 8:45 am]

BILLING CODE 7040-01-P